DEPARTMENT OF COMMERCE

Foreign-Trade Zones Board

[B-105-2013]

Foreign-Trade Zone 289—Ontario County, New York, Authorization of Production Activity, Crosman Corporation, (Airguns), Bloomfield and Farmington, New York

On December 4, 2013, Crosman Corporation submitted a notification of proposed production activity to the Foreign-Trade Zones (FTZ) Board for its facilities within Subzone 289A, in Bloomfield and Farmington, New York.

The notification was processed in accordance with the regulations of the FTZ Board (15 CFR part 400), including notice in the Federal Register inviting public comment (78 FR 75331, 12-11-2013). The FTZ Board has determined that no further review of the activity is warranted at this time. The production activity described in the notification is authorized, subject to the FTZ Act and the Board's regulations, including Section 400.14.

Dated: April 3, 2014.
Andrew McGilvray,
Executive Secretary.

[FR Doc. 2014-07831 Filed 4-7-14; 8:45 am]

BILLING CODE 3510-DS-P